SMALL BUSINESS ADMINISTRATION

Senior Executive Service; Performance Review Board Members

ACTION: Notice of members of the FY 2001 Performance Review Board.

SUMMARY: Section 4314(c)(4) of Title 5, U.S.C. requires each agency to publish notification of the appointment of individuals who may serve as members of that Agency's Performance Review Boards (PRB). The following have been designated to serve on the FY 2001 Performance Review Board for the U.S. Small Business Administration:

1. Susan W. Wiles, Counselor to the Administrator;

2. Alfredo Armendariz, Associate Deputy Administrator for Government Contracting and Business Development;

3. Kaaren Johnson Street, Associate Deputy Administrator for Entrepreneurial Development;

4. Michael L. Barrera, National Ombudsman;

5. Thomas Dumaresq, Acting Associate Deputy Administrator for Management and Administration;

6. Janet Tasker, Associate Administrator for Lender Oversight;

7. Judith Roussel, District Director (Chicago);

8. Jane Butler, Associate Administrator for Financial Assistance;

9. Aubrey Rogers, District Director (New York);

10. Robert Moffitt, Associate Administrator for Surety Guarantees;

11. Nancy Q. Raum, Assistant Administrator for Human Resources;

12. Richard Spence, Assistant Administrator for Congressional and Legislative Affairs;

13. Patrick J. Rhode, Associate Administrator for Communications and Public Liaison;

14. Calvin Jenkins, Acting Associate Administrator for Field Operations;

15. Jeanne Sclater, Acting Associate Deputy Administrator for Capital Access, and

16. Eric Benderson, Associate General Counsel for Litigation.

Dated: November 23, 2001.
Hector V. Barreto,
Administrator.

[FR Doc. 01-29833 Filed 11-30-01; 8:45 am]

BILLING CODE 8025-01-P